DEPARTMENT OF COMMERCE

International Trade Administration

[A-570-106]

Wooden Cabinets and Vanities and Components Thereof From the People's Republic of China: Preliminary Affirmative Determination of Sales at Less Than Fair Value, Postponement of Final Determination and Extension of Provisional Measures

Corrections

In Notice document 2019-21998, appearing on pages 54106-54114, in the issue of Wednesday, October 9, 2019, make the following corrections:

1. On page 54107, on the fifth line, in the fourth column of the table, the Cash deposit rate entry that reads “70.4” should read “70.42”.

2. On the same page, on the sixth line, in the same table, the Cash deposit rate entry that reads “70.4” should read “70.42”.

3. On the same page, on the seventh line, in the fourth column of the same table, the Cash deposit rate entry that reads “28.7” should read “28.71”.

4. On page 54109, on the seventh line, in the fourth column of the same table, the Cash deposit rate entry that reads “28.7” should read “28.71”.

5. On the same page, on the twelfth line, in the fourth column of the same table, the Cash deposit rate entry that reads “28.7” should read “28.71”.

6. On page 54110, on the seventh line, in the fourth column of the same table, the Cash deposit rate entry that reads “28.7” should read “28.71”.

[FR Doc. C1-2019-21998 Filed 10-21-19; 8:45 am]

BILLING CODE 1301-00-D